NUCLEAR REGULATORY COMMISSION

REVISED 717th Meeting of the Advisory Committee on Reactor Safeguards (ACRS)

In accordance with the purposes of sections 29 and 182b of the Atomic Energy Act (42 U.S.C. 2039, 2232(b)), the Advisory Committee on Reactor Safeguards (ACRS) will hold meetings on July 10-12, 2024. The Committee will be conducting meetings that will include some Members being physically present at the NRC while other Members participate remotely. Interested members of the public are encouraged to participate remotely in any open sessions via MS Teams or via phone at 301-576-2978, passcode 237388529#. A more detailed agenda including the MSTeams link may be found at the ACRS public website at https://www.nrc.gov/reading-rm/doc-collections/acrs/agenda/index.html. If you would like the MSTeams link forwarded to you, please contact the Designated Federal Officer (DFO) as follows: Quynh.Nguyen@nrc.gov, or Lawrence.Burkhart@nrc.gov.

Wednesday, July 10, 2024

8:30 a.m.-8:35 a.m.: Opening Remarks by the ACRS Chair (Open)—The ACRS Chair will make opening remarks regarding the conduct of the meeting.

8:35 a.m.-10:30 a.m.: Kairos Hermes 2 Construction Permit Application (Open/Closed)—The Committee will have presentations and discussion with the licensee representatives and NRC staff regarding the subject topic. [Note: Pursuant to 5 U.S.C 552b(c)(4), a portion of this session may be closed in order to discuss and protect information designated as proprietary.]

10:30 a.m.-1:00 p.m.: Committee Deliberation on the Kairos Hermes 2 Construction Permit Application (Open/Closed)—The Committee will deliberate with the NRC staff regarding the subject topic. [Note: Pursuant to 5 U.S.C 552b(c)(4), a portion of this session may be closed in order to discuss and protect information designated as proprietary.]

1:00 p.m.-3:30 p.m.: Research Review Topic: Risk Assessment and Human Factors for Non-Light Water Reactors/Preparation of Reports (Open)—The Committee will have presentations and discussion with the applicant representatives and NRC staff regarding the subject topic.

3:30 p.m.-6:00 p.m.: Preparation of Reports (Open/Closed)—The Committee will proceed to preparation of reports. [Note: Pursuant to 5 U.S.C 552b(c)(4), a portion of this session may be closed in order to discuss and protect information designated as proprietary.]

Thursday, July 11, 2024

8:30 a.m.-6:00 p.m.: Planning and Procedures Session/Future ACRS Activities/Reconciliation of ACRS Comments and Recommendations/Preparation of Reports (Open/Closed)—The Committee will hear discussion of the recommendations of the Planning and Procedures Subcommittee regarding items proposed for consideration by the Full Committee during future ACRS meetings, and/or proceed to preparation of reports and preparation of Commission Meeting as determined by the Chair. [Note: Pursuant to 5 U.S.C. 552b(c)(2), a portion of this meeting may be closed to discuss organizational and personnel matters that relate solely to internal personnel rules and practices of the ACRS.]

[Note: Pursuant to 5 U.S.C 552b(c)(4), a portion of this session may be closed in order to discuss and protect information designated as proprietary.]

Friday, July 12, 2024

8:30 a.m.-6:00 p.m.: Preparation of Reports/Committee Deliberation (Closed)—The Committee will proceed to preparation of reports and Committee deliberation. [Note: Pursuant to 5 U.S.C. 552b(c)(1) disclose matters that are (A) specifically authorized under criteria established by an Executive order to be kept secret in the interests of national defense or foreign policy and (B) in fact properly classified pursuant to such Executive order.]

Procedures for the conduct of and participation in ACRS meetings were published in the Federal Register on June 13, 2019 (84 FR 27662). In accordance with those procedures, oral or written views may be presented by members of the public, including representatives of the nuclear industry. Persons desiring to make oral statements should notify Quynh Nguyen, Cognizant ACRS Staff and the DFO (Telephone: 301-415-5844, Email: Quynh.Nguyen@nrc.gov), 5 days before the meeting, if possible, so that appropriate arrangements can be made to allow necessary time during the meeting for such statements. In view of the possibility that the schedule for ACRS meetings may be adjusted by the Chair as necessary to facilitate the conduct of the meeting, persons planning to attend should check with the cognizant ACRS staff if such rescheduling would result in major inconvenience.

An electronic copy of each presentation should be emailed to the cognizant ACRS staff at least one day before the meeting.

In accordance with Subsection 10(d) of Public Law 92-463 and 5 U.S.C. 552b(c), certain portions of this meeting may be closed, as specifically noted above. Use of still, motion picture, and television cameras during the meeting may be limited to selected portions of the meeting as determined by the Chair. Electronic recordings will be permitted only during the open portions of the meeting.

ACRS meeting agendas, meeting transcripts, and letter reports are available through the NRC Public Document Room (PDR) at pdr.resource@nrc.gov, or by calling the PDR at 1-800-397-4209, or from the Publicly Available Records System component of NRC's Agencywide Documents Access and Management System, which is accessible from the NRC website at https://www.nrc.gov/reading-rm/adams.html or https://www.nrc.gov/reading-rm/doc-collections/#ACRS/

Dated: June 11, 2024.
Russell E. Chazell,
Federal Advisory Committee Management Officer, Office of the Secretary.

[FR Doc. 2024-13221 Filed 6-14-24; 8:45 am]

BILLING CODE 7590-01-P